DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Protection and Advocacy for Individuals with Mental Illness (PAIMI) Final Rule, 42 CFR Part 51 (OMB No. 0930-0172—Extension)—These regulations meet the directive under, 42 USC 10826(b) requiring the Secretary to promulgate final regulations to carry out the PAIMI Act. The regulations contain information collection requirements.

The Act authorized funds to support activities on behalf of individuals with mental illness. Recipients of this formula grant program are required by law to annually report their activities and accomplishments to include the number of individuals served, types of facilities involved, types of activities undertaken and accomplishments resulting from such activities. This summary must also include a separate report prepared by the PAIMI Advisory Council descriptive of its activities and assessment of the operations of the protection and advocacy system. The annual burden estimate for the reporting requirements for these regulations is as follows.

42 CFR Citation | Number of respondents | Responses per respondent | Burden per response (Hrs.) | Total annual burden
51.(8)(a)(2) Program Performance Report | 56 | 1 | 26.0 | 1,456 ¹
51.8(8)(a)(8) Advisory Council Report | 56 | 1 | 10.0 | 560 ¹
51.10 Remedial Actions:
Corrective Action Plan | 6 | 1 | 8.0 | 48
Implementation Status Report | 6 | 3 | 2.0 | 36
51.23(c) Reports, materials and fiscal data provided to Advisory Council | 56 | 1 | 1.0 | 56
51.25(b)(2) Grievance Procedure | 56 | 1 | .5 | 28
Total | 122 |  |  | 2,184
¹ Burden hours associated with these reports are approved under OMB Control No. 0930-0169.

Send comments to Nancy Pearce, SAMHSA Reports Clearance Officer, Room 16-105, Parklawn Building, 5600 Fishers Lane, Rockville, MD 20857. Written comments should be received within 60 days of this notice.

Dated: September 15, 2000.
Richard Kopanda,
Executive Officer, SAMHSA.

[FR Doc. 00-24367 Filed 9-22-00; 8:45 am]

BILLING CODE 4162-20-P